DEPARTMENT OF COMMERCE

International Trade Administration

[A-570-001]

Potassium Permanganate From the People's Republic of China: Extension of Time Limit for Final Results of Antidumping Duty Administrative Review

AGENCY: Import Administration, International Trade Administration, Department of Commerce.

EFFECTIVE DATE: June 29, 2001.

FOR FURTHER INFORMATION CONTACT: Paul Stolz or Howard Smith at (202) 482-4474 or (202) 482-5193, respectively; AD/CVD Enforcement, Office 4, Group II, Import Administration, International Trade Administration, U.S. Department of Commerce, 14th Street and Constitution Avenue, NW, Washington, DC 20230.

Time Limits

Statutory Time Limits

Section 751(a)(3)(A) of the Tariff Act of 1930, as amended (the Act) requires the Department of Commerce (the Department) to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On February 28, 2000, the Department published a notice of initiation of administrative review of the antidumping duty order on potassium permanganate from the People's Republic of China, covering the period January 1, 1999 through December 31, 1999 (65 FR 10466). On February 27, 2001, the Department published in the Federal Register the preliminary results of administrative review of the antidumping duty order on potassium permanganate from the People's Republic of China. See Potassium Permanganate From the People's Republic of China: Preliminary Results of Antidumping Duty Administrative Review, 66 FR 12461 (February 27, 2001).

Extension of Time Limit For Final Determination

We determine that it is not practicable to complete the final results of this review within the original time limit. Therefore, the Department is extending the time limit for completion of the final results until no later than August 26, 2001. See Decision Memorandum from Holly A. Kuga to Bernard T. Carreau, dated concurrently with this notice, which is on file in the Central Records Unit, Room B-099 of the main Commerce building.

This extension is in accordance with section 751(a)(3)(A) of the Act.

Dated: June 25, 2001.
Holly A. Kuga,
Acting Deputy Assistant Secretary, Group II for Import Administration.

[FR Doc. 01-16453 Filed 6-28-01; 8:45 am]

BILLING CODE 3510-DS-P